ENVIRONMENTAL PROTECTION AGENCY

40 CFR Part 52

[EPA-R01-OAR-2010-0121; A-1-FRL-9905-79-Region 1]

Approval and Promulgation of Air Quality Implementation Plans; Connecticut; Low Emission Vehicle Program

AGENCY: Environmental Protection Agency (EPA).

ACTION: Proposed rule.

SUMMARY: The Environmental Protection Agency (EPA) is proposing to approve a State Implementation Plan (SIP) revision submitted by the State of Connecticut. The regulations adopted by Connecticut include the California Low Emission Vehicle (LEV) II light-duty motor vehicle emission standards effective in model year 2008, the California LEV II medium-duty vehicle standards effective in model year 2009, and greenhouse gas emission standards for light-duty motor vehicles and medium-duty vehicles effective with model year 2009. The Connecticut LEV regulation submitted also includes a zero emission vehicle (ZEV) provision, as well as emission control label and environmental performance label requirements. Connecticut has adopted these revisions to reduce emissions of volatile organic compounds (VOC) and nitrogen oxides (NOX) in accordance with the requirements of the Clean Air Act (CAA), as well as to reduce greenhouse gases (carbon dioxide, methane, nitrous oxide, and hydrofluorocarbons). In addition, Connecticut has worked to ensure that their program is identical to California's, as required by the CAA. The intended effect of this action is to propose approval of the Connecticut LEV II program. In addition, EPA is proposing to approve the removal of the definition and regulation of “composite motor vehicles” from the Connecticut's SIP-approved vehicle inspection and maintenance program. These actions are being taken under the CAA.

DATES: Written comments must be received on or before February 26, 2014.

ADDRESSES: Submit your comments, identified by Docket ID Number EPA-R01-OAR-2010-0121 by one of the following methods:

1. www.regulations.gov: Follow the on-line instructions for submitting comments.

2. Email: arnold.anne@epa.gov.

3. Fax (617) 918-0047.

4. Mail: “Docket Identification Number EPA-R01-OAR-2010-0121,” Anne Arnold, U.S. Environmental Protection Agency, EPA New England Regional Office, Office of Ecosystem Protection, Air Quality Planning Unit, 5 Post Office Square—Suite 100, (Mail code OEP05-2), Boston, MA 02109-3912.

5. Hand Delivery or Courier. Deliver your comments to: Anne Arnold, Manager, Air Quality Planning Unit, Office of Ecosystem Protection, U.S. Environmental Protection Agency, EPA New England Regional Office, Office of Ecosystem Protection, Air Quality Planning Unit, 5 Post Office Square—Suite 100, (mail code OEP05-2), Boston, MA 02109-3912. Such deliveries are only accepted during the Regional Office's normal hours of operation. The Regional Office's official hours of business are Monday through Friday, 8:30 a.m. to 4:30 p.m., excluding legal holidays.

Instructions: Direct your comments to Docket ID No. EPA-R01-OAR-2010-0121. EPA's policy is that all comments received will be included in the public docket without change and may be made available online at www.regulations.gov, including any personal information provided, unless the comment includes information claimed to be Confidential Business Information (CBI) or other information whose disclosure is restricted by statute. Do not submit through www.regulations.gov, or email, information that you consider to be CBI or otherwise protected. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at Office of Ecosystem Protection, U.S. Environmental Protection Agency, EPA New England Regional Office, Office of Ecosystem Protection, Air Quality Planning Unit, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays.

In addition, copies of the state submittal are also available for public inspection during normal business hours, by appointment at the State Air Agency; the Bureau of Air Management, Department of Energy and Environmental Protection, State Office Building, 79 Elm Street, Hartford, CT 06106-1630.

FOR FURTHER INFORMATION CONTACT: Donald O. Cooke, Air Quality Planning Unit, U.S. Environmental Protection Agency, EPA New England Regional Office, Office of Ecosystem Protection, Air Quality Planning Unit, 5 Post Office Square—Suite 100, (Mail code OEP05-2), Boston, MA 02109-3912, telephone number (617) 918-1668, fax number (617) 918-0668, email cooke.donald@epa.gov.

SUPPLEMENTARY INFORMATION: Throughout this document whenever “we,” “us,” or “our” is used, we mean EPA. Organization of this document. The following outline is provided to aid in locating information in this preamble.

I. Background and Purpose

II. The California LEV Program

III. Relevant EPA and CAA Requirements

A. Waiver Process

B. State Adoption of California Standards

IV. Level of Emission Reductions This Program Will Achieve

V. Revisions to the Connecticut Motor Vehicle Inspection Program

VI. Proposed Action

VII. Statutory and Executive Order Reviews

I. Background and Purpose

On January 22, 2010, the Connecticut Department of Environmental Protection (now known as the Connecticut Department of Energy and Environmental Protection, CT DEEP) submitted a revision to its State Implementation Plan (SIP) consisting of Connecticut's Low Emissions Vehicle II (LEV II) program, as adopted on December 4, 2004, and subsequently amended on December 22, 2005 and August 4, 2009. The Connecticut LEV II program is cited as a weight-of-evidence measure in Connecticut's Attainment Demonstration SIP for the 1997 8-hour ozone standard, submitted to EPA on February 1, 2008.

On December 4, 2004, Connecticut repealed the provisions of section 22a-174-36 of the Regulations of Connecticut State Agencies, rescinding both the California Low Emission Vehicle I program and the National Low Emission Vehicle (NLEV) program. In accordance with section 177 of the Clean Air Act (CAA) and as required by Connecticut Public Act 04-84,¹ Connecticut adopted section 22a-174-36b, the California Low Emission Vehicle II (LEV II) program, including all “zero emission vehicle” program elements, commencing with 2008 model year vehicles.

¹ On May 10, 2004, the Governor of the State of Connecticut signed into law Public Act 04-84, which the General Assembly adopted on April 22, 2004. Public Act 04-84, amending section 22a-174g of the Connecticut General Statutes (C.G.S.), directs the Commissioner of Environmental Protection to adopt regulations by December 31, 2004, in accordance with the provisions of chapter 54 of the C.G.S., to implement the light duty motor vehicle emission standards of the state of California applicable to motor vehicles of model year 2008 and later. Furthermore, this Public Act directs the Commissioner to amend such regulations from time to time, in accordance with any changes in the standards made by the state of California. California has revised its Low Emission Vehicle standards to adopt green house gas emission standards for passenger cars, light duty trucks and medium duty passenger vehicles commencing with 2009 and subsequent model year vehicles.

On December 22, 2005, Connecticut amended section 22a-174-36b of the Regulations of Connecticut State Agencies, making minor technical corrections and clarifications; adopting California LEV II emission standards and related provisions for medium-duty vehicles commencing with the 2009 model year; adopting recently announced revisions concerning LEV II greenhouse gas emission standards and related provisions for passenger cars, light duty trucks and medium-duty passenger vehicles commencing with the 2009 model year in accordance with section 177 of the CAA and Connecticut Public Act 04-84; and providing additional clarification and flexibility with respect to the implementation of the zero emissions vehicle (ZEV) program in Connecticut.

On August 4, 2009, Connecticut adopted a third amendment consisting of revisions to two sections of the air quality regulations concerning motor vehicles. The recall, warranty, ZEV, and ZEV travel provision amendments update the Connecticut LEV program consistent with changes California made to its LEV program. Specifically, section 22a-174-36b was revised in three respects:

—First, section 22a-174-36b was updated in accordance with Connecticut Public Act 06-161 ² to require manufacturers to place environmental performance labels starting on 2008 model year and later vehicles sold or leased in Connecticut on or after January 1, 2009. Labels must contain a smog score and a global warming score measuring the amount of greenhouse gas emissions from the car compared to the average emissions of all vehicle models of the same model year for that class of cars. The label will provide consumers with information on how a vehicle purchase will affect the environment.

² On June 6, 2006, the Governor of the State of Connecticut signed into law Public Act 06-161. Public Act 06-161 requires the Department of Energy and Environmental Protection (DEEP) commissioner, in consultation with the Department of Motor Vehicles (DMV) commissioner, to: (1) Establish a greenhouse gas (GHG) labeling program for new motor vehicles sold or leased in Connecticut beginning with the 2009 model year; and (2) educate the public about the labeling program and GHGs. It bars the sale or lease of a 2009 or later model year motor vehicle without the required GHG label and funds these programs through a $5 fee the DMV must impose on new car registrations starting January 1, 2007, and bars the sale or lease of a 2009 or later model year motor vehicle without the required GHG label. The Act applies to vehicles with a gross vehicle weight rating of 10,000 pounds or less.

—Second, section 22a-174-36b was updated in accordance with changes made to the California Air Resources Board (CARB) low emissions vehicle program, which serves as the basis for section 22a-174-36b. The updated provisions include the “travel provisions” contained in the ZEV program. Travel provisions amend methods by which manufacturers are credited when placing zero emission or other advanced technology vehicles in service in California or any state that has adopted California's motor vehicle emission control program under section 177 of the CAA.

—Third, technical changes consistent with California's vehicle recall and warranty provisions were included.

In addition to the amendments to the Connecticut LEV program, Connecticut's January 22, 2010 SIP revision includes a change in its motor vehicle emissions inspection program to exempt composite vehicles from tailpipe inspections. The first change to section 22a-174-27, “Emission standards and on-board diagnostic II test requirements for periodic motor vehicle inspection and maintenance,” consists of removing the definition of “composite vehicle” at section 22a-174-27(b)(3). This section previously stated, “Composite Motor Vehicle” means a vehicle that is designated “COMP” or “COMPO” in the “make” field of an applicable Connecticut motor vehicle registration certificate.” The second change was the removal of section 22a-174-27(e), “Composite motor vehicles,” which previously stated, “For 2005 and earlier model year composite motor vehicles, the maximum allowable emissions shall be 4.0 VOL. % CO [volume % carbon monoxide] and 800 ppm HC [parts per million hydrocarbons]. For 2006 and later model year composite motor vehicles, the maximum allowable emissions shall be 1.2 VOL. % CO and 220 ppm HC.” When EPA approved Connecticut's December 19, 2007 inspection and maintenance program SIP revision on December 5, 2008 (73 FR 74019), we approved the August 25, 2004 version of section 22a-174-27 into the SIP. The Connecticut regulation section 22a-174-27, adopted by Connecticut on August 25, 2004, does not reflect Connecticut's Public Act 07-167, which was signed into law on June 25, 2007 by the Governor of the State of Connecticut. Public Act 07-167, as codified in Connecticut General Statutes (C.G.S.) section 14-164c(c), exempts composite vehicles from on-board diagnostic emissions testing requirements.³

³ Specifically, C.G.S. section 14-164(c) exempts the following twelve (12) categories from “an inspection procedure using an on-board diagnostic information system for all 1996 model year and newer motor vehicles:” “(1) Vehicles having a gross weight of more than ten thousand pounds; (2) vehicles powered by electricity; (3) bicycles with motors attached; (4) motorcycles; (5) vehicles operating with a temporary registration; (6) vehicles manufactured twenty-five or more years ago; (7) new vehicles at the time of initial registration; (8) vehicles registered but not designed primarily for highway use; (9) farm vehicles, as defined in subsection (q) of section 14-49; (10) diesel-powered type II school buses; (11) a vehicle operated by a licensed dealer or repairer either to or from a location of the purchase or sale of such vehicle or for the purpose of obtaining an official emissions or safety inspection; or (12) vehicles that have met the inspection requirements of section 14-103a and are registered by the commissioner as composite vehicles.” Section 14-103a further dictates that the commissioner inspect “[a]ny motor vehicle that (1) has been reconstructed, (2) is composed or assembled from the several parts of other motor vehicles, (3) the identification and body contours of which are so altered that the vehicle no longer bears the characteristics of any specific make of motor vehicle, or (4) has been declared a total loss by any insurance carrier and subsequently reconstructed.” EPA interprets the exemption in C.G.S. section 14-164(c) to apply to all of and only these twelve (12) categories.

II. The California LEV Program

CARB adopted the first generation of LEV regulations (LEV I) in 1990, which were effective through the 2003 model year. CARB adopted California's second generation LEV regulations (LEV II) following a November 1998 hearing. Subsequent to the adoption of the California LEV II program in February 2000, EPA adopted separate Federal standards known as the Tier 2 regulations (February 10, 2000; 65 FR 6698). In December 2000, CARB modified the California LEV II program to take advantage of some elements of the Federal Tier 2 regulations to ensure that only the cleanest vehicle models would continue to be sold in California. EPA granted California a waiver for its LEV II program on April 22, 2003 (68 FR 19811).

The LEV II regulations expanded the scope of the LEV I regulations by setting strict fleet-average emission standards for light-duty, medium-duty (including sport utility vehicles) and heavy-duty vehicles. The standards began with the 2004 model year and increased in stringency through the 2010 model year and beyond. The LEV II regulations provide flexibility to auto manufacturers by allowing them to certify their vehicle models to one of several different emissions standards. The different tiers of increasingly stringent LEV II emission standards to which a manufacturer may certify a vehicle are: Low emission vehicle (LEV), ultra-low emission vehicle (ULEV), super-ultra low emission vehicle (SULEV), partial zero emission vehicle (PZEV), advanced technology partial zero emission vehicle (ATPZEV) and zero emission vehicle (ZEV).

The manufacturer must show that the overall fleet for a given model year meets the specified phase-in requirements according to the fleet average non-methane hydrocarbon requirement for that year. The fleet average non-methane hydrocarbon emission limits are progressively lower with each model year. The program also requires auto manufacturers to include a “smog index” label on each vehicle sold, which is intended to inform consumers about the amount of pollution produced by that vehicle relative to other vehicles.

In addition to meeting the LEV II requirements, large or intermediate volume manufacturers must ensure that a certain percentage of the passenger cars and lightest light-duty trucks that they market in California are ZEVs. This is referred to as the ZEV mandate. California has modified the ZEV mandate several times since it took effect. Most recently, CARB has put in place an alternative compliance program (ACP) to provide auto manufacturers with several options to meet the ZEV mandate. The ACP established ZEV credit multipliers to allow auto manufacturers to take credit for meeting the ZEV mandate by selling more PZEVs and ATPZEVs than they are otherwise required to sell. On December 28, 2006, EPA granted California's request for a waiver of Federal preemption to enforce provisions of the ZEV regulations through model year 2011.

On October 15, 2005, California amended its LEV II program to include greenhouse gas (GHG) emission standards for passenger cars, light-duty trucks, and medium-duty passenger vehicles. On December 21, 2005, California requested that EPA grant a waiver of preemption under CAA section 209(b) for its greenhouse gas emission regulations. On June 30, 2009, EPA granted CARB's request for a waiver of CAA preemption to enforce its greenhouse gas emission standards for model year 2009 and later new motor vehicles (July 8, 2009; 74 FR 32744-32784). This decision withdrew and replaced EPA's prior denial of the CARB's December 21, 2005 waiver request, which was published in the Federal Register on March 6, 2008 (73 FR 12156-12169).

III. Relevant EPA and CAA Requirements

Section 209(a) of the CAA prohibits states from adopting or enforcing standards relating to the control of emissions from new motor vehicles or new motor vehicle engines. However, under section 209(b) of the CAA, EPA shall grant a waiver of the section 209(a) prohibition to the State of California unless EPA makes specified findings, thereby allowing California to adopt its own motor vehicle emissions standards. Other states may adopt California's motor vehicle emission standards under section 177 of the CAA.

For additional information regarding California's motor vehicle emission standards and adoption by other states, please see EPA's “California Waivers and Authorizations” Web page at URL address: http://www.epa.gov/otaq/cafr.htm. This Web site also lists relevant Federal Register notices that have been issued by EPA in response to California waiver and authorization requests.

A. Waiver Process

The CAA allows California to seek a waiver of the preemption which prohibits states from enacting emission standards for new motor vehicles. EPA must grant this waiver before California's rules may be enforced. When California files a waiver request, EPA publishes a notice for public hearing and written comment in the Federal Register. The written comment period remains open for a period of time after the public hearing. Once the comment period expires, EPA reviews the comments and the Administrator determines whether the requirements for obtaining a waiver have been met.

According to CAA section 209—State Standards, EPA shall grant a waiver unless the Administrator finds that California:

—was arbitrary and capricious in its finding that its standards are in the aggregate at least as protective of public health and welfare as applicable Federal standards;

—does not need such standards to meet compelling and extraordinary conditions; or

—proposes standards and accompanying enforcement procedures that are not consistent with section 202(a) of the CAA.

The most recent EPA waiver relevant to EPA's proposed approval of Connecticut's LEV program is “California State Motor Vehicle Pollution Control Standards; Notice of Decision Granting a Waiver of Clean Air Act Preemption for California's 2009 and Subsequent Model Year Greenhouse Gas Emission Standards for New Motor Vehicles” (July 8, 2009; 74 FR 32744-32784). This final rulemaking allows California to establish standards to regulate greenhouse gas emissions from new passenger cars, light-duty trucks and medium-duty vehicles. The four new greenhouse gas air contaminants added to California's existing regulations for criteria and criteria-precursor pollutants and air toxic contaminants are: carbon dioxide (CO2), methane (CH4), nitrous oxide (N2O), and hydrofluorocarbons (HFCs).

B. State Adoption of California Standards

Section 177 of the CAA allows other states to adopt and enforce California's standards for the control of emissions from new motor vehicles, provided that, among other things, such state standards are identical to the California standards for which a waiver has been granted under CAA section 209(b). In addition, the state must adopt such standards at least two years prior to the commencement of the model year to which the standards will apply. EPA issued guidance (CISD-07-16) ⁴ regarding its cross-border sales policy for California-certified vehicles. This guidance includes a list and map of states that have adopted California standards, specific to the 2008-2010 model years. All SIP revisions submitted to EPA for approval must also meet the requirements of CAA section 110.

⁴ See EPA's October 29, 2007 letter to Manufactures regarding “Sales of California-certified 2008-2010 Model Year Vehicles (Cross-Border Sales Policy),” with attachments. Attachment 1—EPA Policy on Cross-Border Sales of 2008 to 2010 Model Years California-Certified Vehicles; Attachment 2—Questions and Answers on EPA's Cross Border Sales Policies; and Attachment 3—Updated summary table and a set of maps reflecting the status of Section 177 states by model year. http://iaspub.epa.gov/otaqpub/display_file.jsp?docid=16888&flag=1.

The provisions of Connecticut Public Act 04-84 and section 177 of the CAA both require the Connecticut Department of Energy and Environmental Protection to amend the Connecticut LEV program at such time as the State of California amends its California LEV program. Connecticut has demonstrated its commitment to maintain a Connecticut LEV program consistent with the California LEV program through the adoption of two regulatory amendments to Connecticut's initial LEV program.

EPA notes that a number of California Code of Regulations (CCR) Title 13 provisions incorporated-by-reference in section 22a-174-36b were amended by California in January of 2010 and became operative under California State law on February 13, 2010. As the Connecticut SIP revision was submitted to EPA on January 22, 2010, these subsequent revisions to California regulations will be addressed by Connecticut at a later date.⁵

⁵ On August 1, 2013, Connecticut adopted revisions to Section 22a-174-36b “Low Emission Vehicle II Program” and Section 22a-174-36c “Low Emission Vehicle III Program.” These regulations have not yet been submitted to EPA as a SIP revision and are not part of today's action.

IV. Level of Emission Reductions This Program Will Achieve

The Connecticut LEV program is included in Connecticut's February 1, 2008 8-hour ozone attainment demonstration SIP as a weight-of-evidence measure, but Connecticut does not rely on the LEV program for any specific level of emission reduction. If EPA finalizes its proposed approval of the Connecticut LEV program into the SIP, future emission benefit from this program could be calculated through EPA's Motor Vehicle Emissions Simulator Model, MOVES2010, which was officially released on March 2, 2010 (75 FR 9411).

V. Revisions to the Connecticut Motor Vehicle Inspection Program

Regulations of Connecticut State Agencies section 22a-174-27 establishes emissions standards and test requirements for the periodic motor vehicle inspection and maintenance program to ensure that EPA-required air quality benefits are achieved. EPA previously approved this motor vehicle inspection and maintenance program into the Connecticut SIP. (See December 5, 2008; 73 FR 74019.) On June 25, 2007, the Governor of the State of Connecticut signed into law Public Act 07-167, which the General Assembly adopted on June 4, 2007. Public Act 07-167 as codified in Connecticut General Statutes section 14-164c(c) added a specific exemption for composite vehicles from on-board diagnostic inspection, while maintaining that composite vehicles continue to be subject to inspection requirements of section 14-103a. The amendments to Connecticut General Statutes section 14-164c and its corresponding SIP amendments will exempt composite vehicles from unique tailpipe emission testing and on-board diagnostic inspection.

According to the Connecticut Department of Motor Vehicles, a composite vehicle is defined as, “Any motor vehicle composed or assembled from several parts of other motor vehicles, or the identification and body contours of which are so altered that the vehicle no longer bears the characteristics of any specific make of motor vehicle. Any vehicle not assembled by a manufacturer licensed as such in the State of Connecticut is classified as a composite motor vehicle.” Connecticut Inspection and Maintenance Program data indicates that in 2007, there were 359 composite motor vehicles in Connecticut. After application of existing emission inspection exemptions found in 14-164(c) of the Connecticut General Statutes, only 100 of 359 composite motor vehicles would be required to be inspected by the Division of Motor Vehicles each year. Exempting these 100 vehicles from Connecticut's Inspection and Maintenance program, which applies to approximately 1,959,000 vehicles, will not have significant air quality impacts.

During the inspection and maintenance cycle of January 1, 2008 to December 31, 2009, 1,934,285 gasoline-powered vehicles and 24,758 diesel-powered vehicles received initial Connecticut inspection and maintenance testing. Exempting the 100 cars, which have all emission-related components and settings and are subject to all applicable emission regulations, from a state emission inspection will not change the motor vehicle inspection and maintenance program inputs in MOVES2010, nor will it change the resulting motor vehicle emission factors generated by MOVES2010. Furthermore, EPA believes removing composite motor vehicle from emission testing does not contravene the anti-backsliding provisions established in section 110(l) of the CAA.

VI. Proposed Action

EPA is proposing to approve into the Connecticut SIP Connecticut's section 22a-174-36b, Low Emission Vehicle (LEV II) program, which was submitted to EPA on January 22, 2010. EPA is also proposing to approve section 22a-174-36(i) of the Connecticut State Regulations, which eliminates Connecticut's earlier National Low Emission Vehicle (NLEV) program and Connecticut's Low Emission Vehicle (LEV I) program and replaces them with the Connecticut LEV II program. The Connecticut Low Emission Vehicle II program adopted by Connecticut includes: The California LEV II light-duty program beginning with model year 2008; the California LEV II medium-duty vehicle emission standards beginning with model year 2009; the California LEV II green house gas emission standards for passenger cars, light-duty trucks and medium-duty passenger vehicles commencing with 2009 model year vehicles; environmental performance labeling (with labels containing both smog scores and global warming scores) for 2008 model year and later vehicles; and the California ZEV provision. EPA is proposing to approve the Connecticut LEV II program requirements into the SIP because EPA has found that the requirements are consistent with the CAA.

Finally, EPA is proposing to remove Connecticut's section 22a-174-27(b)(3), the definition of composite motor vehicle, and section 22a-174-27(e), the maximum allowable composite motor vehicle emissions, from the Connecticut SIP. Composite motor vehicles were eliminated from Connecticut's motor vehicle emission inspection program in 2007, consistent with Public Act 07-167 as codified in section 14-164c(c) of the General Statute of Connecticut.

EPA is soliciting public comments on the issues discussed in this notice or on other relevant matters. These comments will be considered before taking final action. Interested parties may participate in the Federal rulemaking procedure by submitting written comments to the EPA New England Regional Office listed in the ADDRESSES section of this Federal Register.

VII. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: January 15, 2014.
H. Curtis Spalding,
Regional Administrator, EPA New England.

[FR Doc. 2014-01502 Filed 1-24-14; 8:45 am]

BILLING CODE 6560-50-P